DEPARTMENT OF HEALTH AND HUMAN SERVICES

Administration for Children and Families

Office of Community Services; Notice To Award a Non-Competitive Successor Grant to Neighborhood Assets

AGENCY: Administration for Children and Families (ACF), Department of Health and Human Services (HHS).

ACTION: Notice to award a non-competitive successor grant to Neighborhood Assets.

CFDA#: 93.602.

Project Period: September 30, 2004 to September 29, 2009.

Award Amount: 100,000.

Statutory Authority: The Assets for Independence Act (Title IV of the Community Opportunities, Accountability, and Training and Educational Act of 1998, as amended, Pub. L. 105-285, 42 U.S.C. 604 note).

SUMMARY: Notice is hereby given that the Administration for Children and Families (ACF), Office of Community Services (OCS) will award a non-competitive successor grant to Neighborhood Assets, a non-profit organization located in Spokane, Washington. The Assets for Independence program supports grantees that provide low-income individuals and families with access to special matched savings accounts called individual development accounts (IDAs) and other asset-building tools such as financial literacy education and coaching and training on money management and consumer issues. The award will enable the Neighborhood Assets to implement an Assets for Independence project serving low-income families in Spokane, Washington. This action is taken as the original grantee, Spokane Neighborhood Action Programs, has relinquished the grant.

FOR FURTHER INFORMATION CONTACT: Mr. James Gatz, Manager, Assets for Independence Program, Office of Community Services, Administration for Children and Families, 370 L'Enfant Promenade, SW., Washington, DC 20447, by telephone on (202) 401-4626 or by e-mail at AFIprogram@acf.hhs.gov.

Dated: March 23, 2009.
Yolanda J. Butler,
Acting Director, Office of Community Services.

[FR Doc. E9-7999 Filed 4-7-09; 8:45 am]

BILLING CODE